DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that the Advisory Committee on Blood Safety and Availability (ACBSA) will hold a meeting. The meeting will be open to the public.

DATES: The meeting will take place Thursday, November 19 and Friday, November 20, 2009 from 8:30 a.m. to 5 p.m.

ADDRESSES: The Universities at Shady Grove, 9630 Gudelsky Drive, Rockville, MD 20850, Phone: 301-738-6000.

FOR FURTHER INFORMATION CONTACT: Jerry A. Holmberg, PhD, Executive Secretary, Advisory Committee on Blood Safety and Availability, Office of Public Health and Science, Department of Health and Human Services, 1101 Wootton Parkway, Suite 250, Rockville, MD 20852, (240) 453-8803, FAX (240) 453-8456, e-mail ACBSA@hhs.gov.

SUPPLEMENTARY INFORMATION: The Advisory Committee on Blood Safety and Availability provides advice to the Secretary and the Assistant Secretary for Health on a range of policy issues that impact (1) Definition of public health parameters around safety and availability of the blood supply and blood products, (2) broad public health, ethical and legal issues related to transfusion and transplantation safety, and (3) the implications for safety and the availability of various economic factors affecting product cost and supply.

In keeping with its established mission, the ACBSA has been asked to review and comment on the current processes and parameters which should be used in the decision-making process for transplantation safety policy. At the November 19 and 20, 2009 meeting, the Committee will be asked to comment and make recommendations on current safety decision making processes within the Department of Health and Human Services while considering those same processes within the Private Sector.

During the meeting, the ACBSA will be provided a briefing on Biovigilance (surveillance of blood, organs, and tissues safety). Specifically, the committee will be asked to comment on the white paper entitled, “Biovigilance in the United States: Efforts to Bridge a Critical Gap in Patient Safety and Donor Health.”

The public will have opportunity to present their views to the Committee on both meeting days. A public comment session has been scheduled for November 19 and 20, 2009. Comments will be limited to five minutes per speaker and must be pertinent to the discussion. Pre-registration is required for participation in the public comment session. Any member of the public who would like to participate in this session is encouraged to contact the Executive Secretary at his/her earliest convenience. It is requested that those who wish to have printed material distributed to the Committee provide thirty (30) copies of the document to be distributed to the Executive Secretary, ACBSA, prior to close of business November 16, 2009. If it is not possible to provide 30 copies of the material to be distributed, then individuals are requested to provide at a minimum one (1) copy of the document(s) to be distributed prior to the close of business November 16, 2009. It also is requested that any member of the public who wishes to provide comments to the Committee utilizing electronic data projection submit the necessary material to the Executive Secretary prior to close of business November 16, 2009.

Dated: September 25, 2009.
Jerry A. Holmberg,
Executive Secretary, Advisory Committee on Blood Safety and Availability.

[FR Doc. E9-24483 Filed 10-9-09; 8:45 am]

BILLING CODE 4150-41-P